DEPARTMENT OF JUSTICE

Notice of Lodging of Proposed Consent Decree Under the Clean Water Act, the Resource Conservation and Recovery Act, the Toxic Substances Control Act and the Clean Air Act

Notice is hereby given that on May 29, 2009, a proposed Consent Decree in United States v. Friction Holdings LLC, Civ. No. 09-662, was lodged with the United States District Court for the Southern District of Indiana.

The proposed Consent Decree resolved the United States claims against Friction Holdings under the Clean Air Act (“CAA”) 42 U.S.C. 7401 et seq., the Resource Conservation and Recovery Act (“RCRA”) 42 U.S.C. 6901 et seq., the Clean Water Act (“CWA”), 33 U.S.C. § 1251 et seq., and the Toxic Substances Control Act (“TSCA”), 15 U.S.C. 2601-2692, in connection with Friction's operation of an automotive and heavy duty wet friction material and parts manufacturing facility in Crawfordsville, Indiana.

Under the proposed Decree, Friction Holdings would be required to: (1) Pay a civil penalty of $337,500; (2) prepare and implement, under the Clean Water Act, various sampling, monitoring, and operations plans, to insure that cyanide in the facility's waste water is being handled properly; (3) pursuant to RCRA, investigate the facility's groundwater to determine if the groundwater is contaminated with PCBs and other hazardous substance, and if so whether the migration of the contaminated groundwater is under control; (4) pursuant to RCRA, remediate two small areas of suspected PCB contamination; (5) pursuant to TSCA, eliminate several sources of PCB contamination at the facility, and study the need for, and conduct where required, risked-based disposals or remediation of on-Facility PCB contamination. Prior to entering into the Decree, the Defendant brought the facility into compliance with the Clean Air Act and resolved the allegations in the Complaint pertaining to violations of that statute.

The Department of Justice will receive, for a period of thirty (30) days from the date of this publication, comments relating to the Consent Decree. Comments should be addressed to the Assistant Attorney General, Environment and Natural Resources Division, and either e- mailed to pubcomment-ees.enrd@usdoj.gov or mailed to P.O. Box 7611, U.S. Department of Justice, Washington, DC 20044-7611, and should refer to United States v. Friction Holdings LLC, D.J. Ref. 90-5-2-1-07285. Commenters may request an opportunity for a public meeting in the affected area, in accordance with Section 7003(d) of RCRA, 42 U.S.C. 6973(d).

The proposed Consent Decree may be examined at the Office of the United States Attorney for the Southern District of Indiana, 10 West Market St., Suite 2100, Indianapolis, IN 46204 (contact Asst. U.S. Attorney Thomas Kieper (317-226-6333)), and at U.S. EPA Region 5, 7th Floor Records Center, 77 West Jackson Blvd., Chicago, Illinois 60604 (contact U.S. EPA Senior Attorney Thomas Kenney (312-886-0708, or U.S. EPA Assistant Regional Counsel Robert Smith, (312-886-0765)). During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $16.00 (25 cents per page reproduction cost), payable to the U.S. Treasury or, if by e-mail or fax, forward a check in that amount to the Consent Decree Library at the stated address.

Maureen Katz,
Assistant Chief, Environmental Enforcement Section Environment and Natural Resources Division.

[FR Doc. E9-13038 Filed 6-3-09; 8:45 am]

BILLING CODE 4410-15-P